ELECTION ASSISTANCE COMMISSION

Proposed Voluntary Voting System Guidelines 2.0 Requirements; Correction

SUMMARY: The U.S. Election Assistance Commission published a document in the Federal Register on March 24, 2020, Proposed Voluntary Voting System Guidelines 2.0 Requirements; Request for Public Comment.

Correction

In the Federal Register on March 24, 2020, in FR Doc. 2020-06086 on page 16621, in the second column, correct the Supplementary Information to read:

SUPPLEMENTARY INFORMATION: The EAC is placing the proposed VVSG 2.0 Requirements as submitted by the Technical Guidelines Development Committee (TGDC) out for a 90-day public comment period. The EAC is asking for comments regarding all sections of the VVSG 2.0 Requirements.

The EAC made the decision to undertake the drafting of VVSG 2.0 as a result of feedback received over several years from a variety of stakeholders including, state and local election officials, voting system manufacturers, and usability, accessibility and security interest groups.

The TGDC proposed a different structure for developing the VVSG 2.0 than in previous years. This structure differs significantly from previous versions of the VVSG because the VVSG 2.0 Requirements are presented in a separate document from the VVSG 2.0 Principles and Guidelines. The VVSG 2.0 Principles and Guidelines are high-level system design goals and a broad description of the functions that make up a voting system. The EAC sought public comments on the VVSG 2.0 Principles and Guidelines from February 28, 2019 to June 7, 2019. Aligned with the VVSG 2.0 Principles and Guidelines, the VVSG 2.0 Requirements represent the requirements to which a voting system is tested to obtain certification under the EAC Testing and Certification Program.

The TGDC unanimously approved to recommend VVSG 2.0 Requirements on February, 7 2020, and sent the Requirements to the EAC Acting Executive Director via the Director of the National Institute of Standards and Technology (NIST), in the capacity of the Chair of the TGDC on March 9, 2020. Upon adoption, the VVSG 2.0 would become the fifth iteration of national level voting system standards. The Federal Election Commission published the first two sets of federal standards in 1990 and 2002. The EAC then adopted Version 1.0 of the VVSG on December 13, 2005. In an effort to update and improve version 1.0 of the VVSG, on March 31, 2015, the EAC commissioners unanimously approved VVSG 1.1.

FOR FURTHER INFORMATION CONTACT: Jerome Lovato, Telephone: (301) 960-1216, E-Mail: jlovato@eac.gov.

Amanda Joiner,
Associate Counsel, U.S. Election Assistance Commission.

[FR Doc. 2020-06413 Filed 3-26-20; 8:45 am]

BILLING CODE P